FEDERAL COMMUNICATIONS COMMISSION

47 CFR Part 73

[DA 02-169, MM Docket No. 00-121, RM-9674]

Digital Television Broadcast Service; Kingston, NY

AGENCY: Federal Communications Commission.

ACTION: Final rule.

SUMMARY: The Commission, at the request of WRNN-TV Associates Limited Partnership, licensee of station WRNN-TV, substitutes DTV channel 48 for DTV channel 21. See 66 FR 39726, August 1, 2001. DTV channel 48 can be allotted to Kingston, New York, in compliance with the principle community coverage requirements of Section 73.625(a) at reference coordinates (41-29-19 N. and 73-56-52 W.) with a power of 200 kW, HAAT of 388 meters and with a DTV service population of 8,326 thousand.

With this action, this proceeding is terminated.

DATES: Effective March 11, 2002.

FOR FURTHER INFORMATION CONTACT: Alan Aronowitz, Mass Media Bureau, (202) 418-1600.

SUPPLEMENTARY INFORMATION: This is a synopsis of the Commission's Report and Order, MM Docket No. 00-121, adopted January 24, 2002, and released January 25, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Digital television broadcasting, Television broadcasting.

Part 73 of Title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under New York, is amended by removing DTV channel 21 and adding DTV channel 48 at Kingston.

Federal Communications Commission.
Barbara A. Kreisman,
Chief, Video Services Division, Mass Media Bureau.

[FR Doc. 02-2618 Filed 2-1-02; 8:45 am]

BILLING CODE 6712-01-P